DEPARTMENT OF COMMERCE

National Oceanic and Atmospheric Administration

50 CFR Part 300

RIN 0648-XF775

Fraser River Sockeye and Pink Salmon Fisheries; Inseason Orders

AGENCY: National Marine Fisheries Service (NMFS), National Oceanic and Atmospheric Administration (NOAA), Commerce.

ACTION: Temporary orders; inseason orders.

SUMMARY: NMFS publishes Fraser River salmon inseason orders to regulate treaty and non-treaty (all citizen) commercial salmon fisheries in U.S. waters. The orders were issued by the Fraser River Panel (Panel) of the Pacific Salmon Commission (Commission) and subsequently approved and issued by NMFS during the 2017 salmon fisheries within the U.S. Fraser River Panel Area. These orders established fishing dates, times, and areas for the gear types of U.S. treaty Indian and all citizen commercial fisheries during the period the Panel exercised jurisdiction over these fisheries.

DATES: The effective dates for the inseason orders are set out in this document under the heading Inseason Orders.

FOR FURTHER INFORMATION CONTACT: Peggy Mundy at 206-526-4323.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F, provide a framework for the implementation of certain regulations of the Commission and inseason orders of the Commission's Fraser River Panel for U.S. sockeye and pink salmon fisheries in the Fraser River Panel Area.

The regulations close the U.S. portion of the Fraser River Panel Area to U.S. sockeye and pink salmon tribal and non-tribal commercial fishing unless opened by Panel orders that are given effect by inseason regulations published by NMFS. During the fishing season, NMFS may issue regulations that establish fishing times and areas consistent with the Commission agreements and inseason orders of the Panel. Such orders must be consistent with domestic legal obligations and are issued by the Regional Administrator, West Coast Region, NMFS. Official notification of these inseason actions is provided by two telephone hotline numbers described at 50 CFR 300.97(b)(1) and in 82 FR 19631 (April 28, 2017). The inseason orders are published in the Federal Register as soon as practicable after they are issued. Due to the frequency with which inseason orders are issued, publication of individual orders is impractical.

Inseason Orders

The following inseason orders were adopted by the Panel and issued for U.S. fisheries by NMFS during the 2017 fishing season. Each of the following inseason actions was effective upon announcement on telephone hotline numbers as specified at 50 CFR 300.97(b)(1) and in 82 FR 19631 (April 28, 2017); those dates and times are listed herein. The times listed are local times, and the areas designated are Puget Sound Management and Catch Reporting Areas as defined in the Washington State Administrative Code at Chapter 220-22.

Fraser River Panel Order Number 2017-01: Issued 12:55 p.m., August 22, 2017

Treaty Indian Fishery

Areas 4B, 5, and 6C: Open to drift gillnets 12 p.m. (noon), Wednesday, August 23, 2017, to 12 p.m. (noon), Saturday, August 26, 2017. Sockeye may be retained for ceremonial and subsistence purposes only.

Area 7: Open to reef nets from 5 a.m. to 9 p.m., Wednesday, August 23, 2017, from 5 a.m. to 9 p.m., Thursday, August 24, 2017, and from 5 a.m. to 9p.m., Friday August 25, 2017. Sockeye may be retained for ceremonial and subsistence purposes only.

Fraser River Panel Order Number 2017-02: Issued 3:30 p.m., August 24, 2017

Treaty Indian Fishery

Area 7: Open to reef nets from 5 a.m. to 9 p.m., Saturday, August 26, 2017. Sockeye may be retained for ceremonial and subsistence purposes only.

Areas 6, 7, and 7A: Open to purse seines and gillnets from 5 a.m., Friday, August 25, 2017, to 9 a.m., Saturday, August 26, 2017. Sockeye may be retained for ceremonial and subsistence purposes only.

All Citizen Fishery

Areas 7 and 7A: Open for reef nets, with non-retention of sockeye, from 5 a.m. to 9 p.m., Friday, August 25, 2017, and from 5 a.m. to 9 p.m., Saturday, August 26, 2017.

Fraser River Panel Order Number 2017-03: Issued 2 p.m., August 28, 2017

Treaty Indian Fishery

Areas 4B, 5, and 6C: Open to drift gillnets from 12 p.m. (noon), Tuesday, August 29, 2017, to 12 p.m. (noon), Friday, September 1, 2017. Sockeye may be retained for ceremonial and subsistence purposes only.

Areas 6, 7, and 7A: Open to purse seines and drift gillnets from 5 a.m., Wednesday, August 29, 2017, to 9 a.m., Thursday, August 31, 2017. Sockeye may be retained for ceremonial and subsistence purposes only.

Area 7: Open to reef nets from 5 a.m. to 9 p.m., Tuesday, August 29, 2017, and from 5 a.m. to 9 p.m., Wednesday, August 30, 2017. Sockeye may be retained for ceremonial and subsistence purposes only.

All Citizen Fishery

Areas 7 and 7A: Open to purse seines, with non-retention of sockeye, from 5 a.m. to 9 p.m., Tuesday, August 29, 2017.

Areas 7 and 7A: Open to gillnets, with non-retention of sockeye, from 8 a.m. to 11:59 p.m., Tuesday, August 29, 2017.

Areas 7 and 7A: Open to reef nets, with non-retention of sockeye, from 5 a.m. to 9 p.m., Tuesday, August 29, 2017, and from 5 a.m. to 9 p.m., Wednesday, August 30, 2017.

Fraser River Panel Order Number 2017-04: Issued 2:20 p.m., August 31, 2017

Treaty Indian Fishery

Areas 4B, 5, and 6C: Extend for drift gillnets from 12 p.m. (noon), Friday, September 1, 2017, to 12 p.m. (noon), Tuesday, September 5, 2017. Sockeye may be retained for ceremonial and subsistence purposes only.

Areas 6, 7, and 7A: Open to net fishing, excluding reef nets, from 5 a.m., Friday, September 1, 2017, to 9 p.m., Tuesday, September 5, 2017. Sockeye may be retained for ceremonial and subsistence purposes only.

Areas 7 and 7A: Open to reef nets from 5 a.m. to 9 p.m., daily from Friday, September 1, 2017, through Tuesday, September 5, 2017. Sockeye may be retained for ceremonial and subsistence purposes only.

All Citizen Fishery

Areas 7 and 7A: Open to purse seines, with non-retention of sockeye, from 5 a.m. to 9 p.m., daily from Friday, September 1, 2017, through Tuesday, September 5, 2017.

Areas 7 and 7A: Open to drift gillnets, with non-retention of sockeye, from 8:05 a.m. to 11:59 p.m., daily from Friday, September 1, 2017, through Tuesday, September 5, 2017.

Areas 7 and 7A: Open to reef nets, with non-retention of sockeye, from 5 a.m. to 9 p.m., daily from Friday, September 1, 2017, through Tuesday, September 5, 2017.

Areas 7 and 7A: Open to beach seines, with non-retention of sockeye, from 5 a.m., Friday, September 1, 2017, through 9 p.m., Tuesday, September 5, 2017.

Fraser River Panel Order Number 2017-05: Issued 12:50 p.m., September 5, 2017

Washington State and Treaty Indian tribes closed most United States Fraser Panel water fisheries on Sunday, September 3, 2017, in response to concerns that the potential harvest of Fraser River pink salmon would exceed the United States share of the total allowable catch. The Fraser River Panel met Tuesday, September 5, 2017, and confirmed the earlier closure of several fisheries that were previously announced on Thursday, August 31, 2017, Fraser River Panel order number 2017-04. The Panel announced the earlier closure of the following Commercial salmon fisheries in Panel Area waters:

Treaty Indian Fishery

Areas 6, 7, and 7A: Open to net fishing, excluding reef nets, from 5 a.m., Friday, September 1, 2017, to 9 p.m., Sunday, September 3, 2017. Sockeye may be retained for ceremonial and subsistence purposes only.

Areas 7 and 7A: Open to reef nets from 5 a.m. to 9 p.m., daily from Friday, September 1, 2017, through Sunday, September 3, 2017. Sockeye may be retained for ceremonial and subsistence purposes only.

All Citizen Fishery

Areas 7 and 7A: Open to purse seines, with non-retention of sockeye, from 5 a.m. to 9 p.m., daily from Friday, September 1, 2017, through Sunday, September 3, 2017.

Areas 7 and 7A: Open to drift gillnets, with non-retention of sockeye, from 8:05 a.m. to 11:59 p.m., daily from Friday, September 1, 2017, through Sunday, September 3, 2017.

Areas 7 and 7A: Open to reef nets, with non-retention of sockeye, from 5 a.m. to 9 p.m., daily from Friday, September 1, 2017, through Sunday, September 3, 2017.

Areas 7 and 7A: Open to beach seines, with non-retention of sockeye, from 5 a.m., Friday, September 1, 2017, through 11:59 p.m., Sunday, September 3, 2017.

Fraser River Panel Order Number 2017-06: Issued 12:15 p.m., September 12, 2017

Treaty Indian and All Citizen Fisheries

Areas 6, 6A, and 7: Relinquish regulatory control effective 12:01 a.m., Sunday, September 24, 2017.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: November 9, 2017.
Emily H. Menashes,
Acting Director, Office of Sustainable Fisheries, National Marine Fisheries Service.

[FR Doc. 2017-24715 Filed 11-14-17; 8:45 am]

BILLING CODE 3510-22-P